DEPARTMENT OF THE INTERIOR

Bureau of Land Management

[OR-010-1020-PK; HAG 04-0150]

Southeast Oregon Resource Advisory Council Meeting

AGENCY: Bureau of Land Management (BLM), Lakeview District

ACTION: Meeting notice for the Southeast Oregon Resource Advisory Council, Interior.

SUMMARY: The Southeast Oregon Resource Advisory Council (SEORAC) will hold a meeting from 8 a.m. until 5 p.m. Pacific time (P.t.), Monday May 24, 2004, and 8 a.m. until noon on Tuesday May 25, 2004, at the BLM, Lakeview Interagency Office. Members of the public are invited to attend the Lakeview meeting in person at the Lakeview Interagency Office, Conference Room, 1301 South G Street, Lakeview, Oregon 97630. Public comment is scheduled for 8 a.m. on Tuesday, May 25, 2004. An optional field tour for all members will be held on Sunday May 23, 2004, starting at 1 p.m. (P.t.) at the BLM, Klamath Falls Resource Area Office.

The meeting topics that may be discussed by the Council include a discussion of issues within Southeast Oregon related to: Optional field tour on Sunday; Lakeview District noxious weed presentation; Biomass plant in Lakeview; Healthy Forest Initiative (HFI)—Healthy Forest Restoration Act projects (HFRA); Determine RAC role with District and Forest projects; RAC's role with implementation of the Lakeview Resource Management Plan; Klamath Tribe Plan and RAC involvement; Sage grouse update; Charter review for possible changes; Sub committee reports and status; Federal Officials' update and other issues that may come before the Council.

Information to be distributed to the Council members is requested in written format 10 days prior to the Council meeting.

FOR FURTHER INFORMATION CONTACT: Additional information concerning the SEORAC tour or meeting may be obtained from Pam Talbott, Contact Representative, Lakeview Interagency Office, 1301 South G Street, Lakeview, OR 97630 (541) 947-6107, or ptalbott@or.blm.gov and/or from the following Web site http://www.or.blm.gov/SEOR-RAC.

Dated: April 14, 2004.
Steven A. Ellis,
District Manager.

[FR Doc. 04-9119 Filed 4-21-04; 8:45 am]

BILLING CODE 4310-33-P